DEPARTMENT OF EDUCATION

[Docket No. ED-2023-SCC-0001]

Agency Information Collection Activities; Comment Request; Evaluation of the REL West Supporting Early Reading Comprehension Through Teacher Study Groups Toolkit

AGENCY: Institute of Education Sciences (IES), Department of Education (ED).

ACTION: Notice.

SUMMARY: In accordance with the Paperwork Reduction Act (PRA) of 1995, the Department is proposing a new information collection request (ICR).

DATES: Interested persons are invited to submit comments on or before March 13, 2023.

ADDRESSES: To access and review all the documents related to the information collection listed in this notice, please use http://www.regulations.gov by searching the Docket ID number ED-2023-SCC-0001. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Elizabeth Nolan, 312-730-1532.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the REL West Supporting Early Reading Comprehension through Teacher Study Groups Toolkit.

OMB Control Number: 1850-NEW.

Type of Review: A new ICR.

Respondents/Affected Public: Individuals and Households.

Total Estimated Number of Annual Responses: 6,012.

Total Estimated Number of Annual Burden Hours: 1,255.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The central mission and primary function of the RELs is to support applied research and provide technical assistance to state and local education agencies within their region (ESRA, Part D, section 174[f]). The REL program's goal is to partner with educators and policymakers to conduct work that is change-oriented and supports meaningful local, regional, or state decisions about education policies, programs, and practices to improve outcomes for students.

Elementary-grade students in U.S. public schools continue to struggle with reading comprehension, with only 35 percent of 4th-grade students performing at or above proficient on the National Assessment of Educational Progress (NAEP) scores in reading (Hussar et al., 2020). To address this problem in earlier grades, when schools begin reading comprehension instruction, REL West is developing a toolkit to support teachers in implementing evidence-based instructional strategies to improve reading comprehension among students in grades K-3. The toolkit is based on the Improving Reading Comprehension in Kindergarten Through 3rd Grade IES practice guide (Shanahan et al., 2010) and is being developed in collaboration with state and district partners in Arizona. The toolkit contains the following three parts: (1) Initial Diagnostic and On-going Monitoring Instruments, (2) Professional Development Resources, and (3) Steps for Institutionalizing Supports for Evidence-Based Practice.

This study is designed to measure the efficacy and implementation of the REL West-developed toolkit designed to improve reading comprehension among students in grades K-3. The toolkit evaluation team plans to conduct an independent evaluation using a school-level, cluster randomized controlled trial design to assess the efficacy and cost-effectiveness of the school-based professional development resources included in the toolkit. The evaluation will take place in 70 schools across six districts in Arizona and focus on K-3 reading comprehension for all students. The evaluation will also assess how teachers and facilitators implement the toolkit to provide context for the efficacy findings and guidance to improve the toolkit and its future use. The toolkit evaluation will produce a report for district and school leaders who are considering strategies to improve reading comprehension in kindergarten through 3rd grade. The report will be designed to help district and school leaders decide whether and how to use the toolkit to help them implement the practice guide recommendations.

Dated: January 5, 2023.
Juliana Pearson,
PRA Coordinator, Strategic Collections and Clearance, Governance and Strategy Division, Office of Chief Data Officer, Office of Planning, Evaluation and Policy Development.

[FR Doc. 2023-00294 Filed 1-9-23; 8:45 am]

BILLING CODE 4000-01-P